DEPARTMENT OF THE INTERIOR

Bureau of Ocean Energy Management

[Docket No. BOEM-2024-0061]

Commercial Leasing for Wind Power Development on the Guam Outer Continental Shelf—Call for Information and Nominations

AGENCY: Bureau of Ocean Energy Management, Interior.

ACTION: Call for information and nominations; request for comments.

SUMMARY: This call for information and nominations (Call or notice) invites public comment on, and assesses interest in, possible commercial wind energy leasing on the Outer Continental Shelf (OCS) offshore Guam as part of planning for commercial leasing in the region. The Bureau of Ocean Energy Management (BOEM) will consider information received in response to this Call to determine whether to schedule a competitive lease sale or to issue a noncompetitive lease for any portion of the area described in this Call (Call Area). Those interested in providing comments or information regarding site conditions, resources, and multiple uses in close proximity to or within the Call Area should provide the information requested in section 8, “Requested Information from Interested or Affected Parties,” under the SUPPLEMENTARY INFORMATION heading of this Call.

Those interested in leasing within the Call Area for a commercial wind energy project should provide the information described in section 9, “Required Nomination Information.” BOEM may or may not offer a lease for a commercial offshore wind energy project within the Call Area after further consultations, public participation, and environmental analyses.

DATES: BOEM must receive your interest in or comments on commercial leasing within the Call Area no later than April 7, 2025. BOEM may not consider late submissions.

ADDRESSES: Please submit nomination information for commercial leasing as discussed in section 9, entitled, “Required Nomination Information,” electronically via email to renewableenergypocs@boem.gov or by hard copy by mail to the following address: Bureau of Ocean Energy Management, Pacific Region, Office of Strategic Resources, 760 Paseo Camarillo (CM 102), Camarillo, California 93010. If you elect to mail a hard copy, also include an electronic copy on a portable storage device. Do not submit nominations via the Federal eRulemaking Portal. BOEM will list the qualified parties that submitted nominations and the aggregated locations of nominated areas on its website after review of the nominations.

Please submit all other comments and information by either of the following two methods:

1. Federal eRulemaking Portal: http://www.regulations.gov. In the search box at the top of the web page, enter BOEM-2024-0061 and then click “search.” Follow the instructions to submit public comments and to view supporting and related materials.

2. By mail to the following address: Bureau of Ocean Energy Management, Pacific Region, Office of Strategic Resources, 760 Paseo Camarillo (CM 102), Camarillo, California 93010.

Treatment of confidential information is addressed in section 10 of this notice entitled, “Protection of Privileged, Personal, or Confidential Information.” BOEM will post all comments received on regulations.gov unless labeled as confidential.

FOR FURTHER INFORMATION CONTACT: Deanna Meier, Renewable Energy Specialist, BOEM, Pacific Region, Office of Strategic Resources, 760 Paseo Camarillo (CM 102), Camarillo, California 93010, (805) 384-6265 or deanna.meier@boem.gov.

For information regarding qualification requirements to hold an OCS wind energy lease, contact Lakeisha Douglas, BOEM, Pacific Region, Office of Strategic Resources, at lakeisha.douglas@boem.gov or (805) 384-6394.

SUPPLEMENTARY INFORMATION:

1. Authority

This Call is published under subsection 8(p)(3) of the Outer Continental Shelf Lands Act (OCSLA), 43 U.S.C. 1337(p)(3), and its implementing regulations at 30 CFR 585.210 and 585.211.

2. Purpose

The OCSLA requires BOEM to award leases competitively unless BOEM determines that there is no competitive interest (43 U.S.C. 1337(p)(3)). The primary purpose of this Call is to collect further information and feedback on industry interest, site conditions, resources, and ocean uses within, and surrounding, the Call Area.

An essential part of BOEM's renewable energy leasing process for Guam is working closely with Federal agencies, Indigenous Peoples, State and local governments, industry, and ocean users to identify areas that may be suitable for potential offshore wind development to provide electric power to Guam communities. BOEM has not yet determined which areas, if any, within the Call Area may be offered for lease. Your input is essential and will help BOEM determine areas that may be suitable for offshore wind energy development. There will also be multiple opportunities to provide feedback throughout the renewable energy planning and leasing process. A detailed description of the Call Area may be found below in section 6, “Description of Call Area.” For more information about BOEM's competitive and noncompetitive leasing processes, please see section 4, “BOEM's Planning and Leasing Process.”

3. Background

The Energy Policy Act of 2005 amended OCSLA by adding subsection 8(p)(1)(C), which authorizes the Secretary of the Interior (Secretary) to grant leases, easements, and rights-of-way on the OCS for activities that are not otherwise authorized by law and that produce or support production, transportation, or transmission of energy from sources other than oil or gas, including renewable energy sources. Furthermore, under section 3(3) of OCSLA (43 U.S.C. 1332(3)), BOEM considers leasing the OCS for offshore wind development because “the Outer Continental Shelf is a vital national resource reserve held by the Federal Government for the public, which should be made available for expeditious and orderly development, subject to environmental safeguards, in a manner which is consistent with the maintenance of competition and other national needs.”

The Secretary delegated these OCSLA authorities to the BOEM Director. On April 29, 2009, the Department of the Interior (Department) published regulations entitled, “Renewable Energy and Alternate Uses of Existing Facilities on the Outer Continental Shelf,” ¹ which were subsequently re-codified at 30 CFR part 585.² On May 15, 2024, the Department amended its offshore renewable energy regulations through the publication of the final Renewable Energy Modernization Rule.³ This final rule reduced regulatory burdens and streamlined processes and incorporated recommendations from stakeholders. The Renewable Energy Modernization Rule became effective on July 15, 2024.

¹ 74 FR 19638 (April 29, 2009).

² 76 FR 64432 (October 18, 2011).

³ 89 FR 42602 (May 15, 2024).

Section 50251(b) of the Inflation Reduction Act of 2022 (IRA) expanded the definition of the OCS under OCSLA to include submerged lands within the exclusive economic zone adjacent to U.S. territories. The IRA directs the Secretary to issue calls for interest in offshore wind leasing off territorial coasts and authorizes wind lease sales in areas deemed feasible and of interest after the Secretary has consulted with the Territorial Governor. BOEM and the Government of Guam have initiated the first planning step in the BOEM renewable energy authorization process by establishing the BOEM Guam Intergovernmental Renewable Energy Task Force (Task Force) at the request of the Honorable Lourdes “Lou” Aflague Leon Guerrero, the Governor of Guam.

In a subsection entitled, “Offshore Wind for the Territories,” the IRA imposed several deadlines for wind energy leasing offshore the U.S. territories. Specifically, in Section 50251(b)(2), the IRA directs the Secretary to issue an initial Call for Information and Nominations no later than September 30, 2025. This Call meets the relevant requirements and deadline from the IRA.

On October 4, 2023, the Department amended its offshore renewable energy regulations to conform with the IRA. The regulation entitled, “Conformity with the Inflation Reduction Act for Renewable Energy on the Outer Continental Shelf” ⁴ became effective on December 4, 2023.

⁴ 88 FR 68460 (October 4, 2023).

Because Guam is a volcanically-formed island in the Pacific Ocean, it has a narrow coastal shelf with steep continental slopes, and thus the ocean deepens quickly from shore. As a result, the Call Area is in water depths too deep for traditional fixed bottom foundation designs, and offshore wind development in these areas will require floating technology and designs. On September 15, 2022, the Biden Administration announced the goal of deploying 15 GW of floating offshore wind power in the U.S. by 2035, building on the existing goal of 30 GW of total offshore wind energy by 2030. BOEM is committed to this ambitious goal by responsibly fostering the growth of offshore wind energy capacity and participating in collaborative, data-based planning to inform decisions involving shared ocean resources and the many users that depend on them. To this end, BOEM's five-year renewable energy leasing schedule includes a potential lease sale for a U.S. Territory in 2028.⁵

⁵ See this Press Release for additional information on the five-year schedule: https://www.doi.gov/pressreleases/secretary-haaland-announces-new-five-year-offshore-wind-leasing-schedule.

Notably, upon release of this Call, BOEM intends to continue engagement with the Indigenous Peoples of Guam. Indigenous knowledge about the local environment and concerns of Indigenous Peoples about offshore wind project development constitute crucial information to be considered during the BOEM offshore wind planning and leasing process. BOEM appreciates the importance of coordinating its planning with other OCS users, regulators, and relevant Federal agencies including, but not limited to, the U.S. Fish and Wildlife Service, the National Park Service, the U.S. Army Corps of Engineers, the U.S. Coast Guard, the National Oceanic and Atmospheric Administration (NOAA), the Department of the Interior's Office of Insular Affairs, and the Department of Defense (DoD). BOEM also coordinates with and requests input from the Western Pacific Regional Fishery Management Council and Guam Sea Grant; both of these organizations consider Indigenous fishing practices. In addition, BOEM uses other information sources in its decision-making, such as data and information on the location of marine life and habitat areas, cultural resources, transportation links, fishing areas, and other human uses that must be considered when offshore energy or other infrastructure projects are proposed. In 2024, BOEM received a request from Guam's Governor to convene a regional intergovernmental renewable energy task force and begin the process of investigating offshore wind as an option for Guam. In response, BOEM established the BOEM Guam Intergovernmental Renewable Energy Task Force to facilitate coordination among relevant Federal agencies and Territorial and local governments throughout the leasing and planning process. The first Task Force meeting was held on September 11, 2024. Materials from the Task Force meeting are available on the BOEM website at: https://www.boem.gov/renewable-energy/state-activities/guam-activities.

The Task Force meeting was followed by a two-day BOEM/National Centers for Coastal Ocean Science (NCCOS) Data Workshop, which was held on September 12 and 13, 2024. Attendees from Federal, Territorial, and local agencies and non-governmental organizations provided data and insight on potential data gaps. Information about the NCCOS process can be found on the NOAA NCCOS website at: https://coastalscience.noaa.gov/project/marine-biogeographic-assessment-of-u-s-territories/.

Guam's electricity is provided entirely by the Guam Power Authority (GPA), a public utility company overseen by the Consolidated Commission on Utilities and regulated by the Guam Public Utilities Commission. In 2019, Guam Public Law 35-46 amended GPA's renewable energy portfolio standard goal to 100 percent by 2045. GPA included a pathway to 100 percent renewable energy by 2040 in its Clean Energy Master Plan, along with an interim goal of 50 percent renewable energy by 2030. Solar photovoltaic energy and energy storage system projects have paved the way for renewables and contributed toward achievement of GPA's renewable energy goals thus far.

4. BOEM's Planning and Leasing Process

a. Determination of Competitive Interest

Subsection 8(p)(3) of OCSLA states that “the Secretary shall issue a lease, easement, or right-of-way . . . on a competitive basis unless the Secretary determines after public notice of a proposed lease, easement, or right-of-way that there is no competitive interest.”

If BOEM determines both that competitive interest exists in acquiring a lease to develop offshore wind energy and that the areas within the Call Area are appropriate to lease, BOEM may hold one or more competitive lease sales for those areas. If BOEM holds a lease sale, all qualified bidders, including bidders that did not submit a nomination in response to this Call, will be able to participate in the lease sale.

BOEM reserves the right to refrain from offering for lease any areas that are nominated as a result of this Call and to modify nominated areas before offering them for lease.

b. Competitive Leasing Process

BOEM will follow the steps required by 30 CFR 585.211 through 585.226 if it decides to proceed with the competitive leasing process after analyzing the responses to this Call. Those steps are:

(1) Area Identification: BOEM will identify areas for consideration for leasing. Those areas will constitute Wind Energy Areas (WEAs) and will be subject to environmental analysis in consultation with appropriate Federal agencies, Indigenous Peoples, Territorial and local governments, and other interested parties. Before finalizing the WEAs, BOEM may publish draft WEAs with a public comment period and a docket on regulations.gov.

(2) Proposed Sale Notice (PSN): If BOEM decides to proceed with a competitive lease sale within the WEAs, BOEM will publish a PSN in the Federal Register with a public comment period of 60 days, unless BOEM specifies another time period of not less than 30 days. The PSN will describe the areas that BOEM intends to offer for leasing, the proposed conditions of a lease sale, the proposed auction format of the lease sale, and the lease instrument, including the proposed lease addenda. Additionally, the PSN will describe the criteria and process for evaluating bids in the lease sale.

(3) Final Sale Notice (FSN): After considering the comments on the PSN and completing its environmental analysis and consultations, if BOEM decides to proceed with a competitive lease sale, it will publish an FSN in the Federal Register at least 30 days before the date of the lease sale. The FSN will provide the final terms and conditions for a lease sale, including the date, time, and location for the sale itself. The FSN will also include a list of the companies that have legally, technically and financially qualified to participate in the lease sale.

(4) Bid Submission and Evaluation: Following the publication of the FSN in the Federal Register, BOEM will offer the lease area(s) through a competitive sale process using procedures specified in the FSN. BOEM will review the sale, including bids and bid deposits, for technical and legal adequacy. BOEM will ensure that bidders have complied with all applicable regulations. BOEM reserves the right to reject all bids and to withdraw an offer to lease an area, even after bids have been submitted.

(5) Issuance of a Lease: Following identification of the winning bidder on a lease area, BOEM will notify that bidder and provide the lease documents for signature.

5. Development of the Call Area

BOEM began discussions in 2024 with the Government of Guam and several Federal agencies (i.e., NOAA and DoD) on the potential for offshore wind leasing on the OCS offshore Guam. The breadth of relevant spatial data representing marine natural resources and ocean uses available in the area surrounding Guam must be further understood. Therefore, BOEM's strategy for the Guam Call Area is to start with an expanded geographic area to allow for broad information collection and geospatial analysis.

BOEM defined the northern boundary of the Call Area as the area halfway between Guam and the nearby island of Rota. BOEM removed only a limited number of areas from the Call Area, including areas in which offshore wind energy development cannot occur as a result of law, jurisdictional, or technical considerations. These include:

• Areas between the shoreline and 3 nautical miles from shore;

• Areas deeper than 2600 meters.

The Call Area is the area within which BOEM is seeking to identify one or more locations suitable for offshore wind development. It is not indicative of the area that may ultimately be developed. BOEM recognizes that the Call Area may include areas where future offshore wind energy development could conflict with existing ocean uses (e.g., fishing, shipping) and sensitive habitats that are important to the conservation and recovery of protected species, including specific areas which BOEM previously received feedback on during the September 2024 Task Force meeting (e.g., fishing areas to the north of Guam). The intention of defining a large Call Area is to receive feedback across a broad area on specific locations that may or may not be well suited for offshore wind based on a variety of factors. The feedback and information provided can then be incorporated into the offshore wind planning process.

6. Description of Call Area

The Call Area consists of 2,114,344 acres located off the coast of Guam (see Figure 1). The map depicting the Call Area (Figure 1), a spreadsheet listing its specific OCS blocks, and an Esri shapefile are available for download on the BOEM website at: https://www.boem.gov/renewable-energy/state-activities/guam-activities.

7. Guam Next Steps

The Call Area identifies broad portions of the OCS offshore Guam for further analysis. That analysis will include consideration of commercial nominations and public comments submitted in response to this Call so that potential use conflicts can be analyzed during the next step in the leasing process: the designation of specific WEAs (Area Identification). BOEM's analysis during Area Identification will evaluate the appropriateness of the Call Area for offshore wind energy development, balanced against potential ocean user conflicts.

BOEM will consider environmental information, consultations, public comments, and continued coordination with the BOEM Guam Intergovernmental Renewable Energy Task Force, which includes relevant Federal, Territorial, and local governments. If BOEM continues to proceed with the process, BOEM anticipates designating specific WEAs within the Call Area and developing lease terms and conditions to avoid, minimize, or mitigate potential impacts from leasing and site assessment activities. Starting with the Call and continuing through the subsequent stages in BOEM's leasing process, BOEM is committed to working with the following groups:

a. Coordination With the Guam Governor's Office

BOEM coordinated with staff from the Governor's office to plan the first Task Force meeting and to engage with Territorial and local agencies and Indigenous Peoples. BOEM coordinated with the Governor's office while developing the Call Area and will continue coordination to convene the Task Force to enhance collaboration and address challenges associated with the siting of offshore wind leasing areas.

b. BOEM/NCCOS Partnership

In September 2022, BOEM announced enhancements to its Area Identification process.⁶ One of these enhancements is a partnership with NCCOS to employ a spatial model that analyzes entire marine ecosystems to identify the least conflicted areas for wind energy sites. NCCOS and BOEM are leveraging a team of expert spatial planners, marine and fisheries scientists, project coordinators, environmental policy analysts, and other subject matter experts to develop the Guam Offshore Wind Suitability Model (suitability model).

⁶ BOEM Enhances its Processes to Identify Future Offshore Wind Energy Areas. (September 16, 2022). Bureau of Ocean Energy Management. https://www.boem.gov/newsroom/notes-stakeholders/boem-enhances-its-processes-identify-future-offshore-wind-energy-areas.

BOEM and NCCOS intend to use the suitability modeling methods that were previously applied to offshore wind energy siting efforts in the Gulf of Mexico, Gulf of Maine, Oregon, and Central Atlantic regions during Area Identification. NCCOS's spatial modeling approach provides a tool for identifying areas that are most suitable for offshore wind energy development, particularly when large areas of the OCS offshore a state or territory have potential for such development. Additionally, BOEM intends for this partnership and modeling approach to enhance transparency, improve engagement, and provide a consistent, reproducible methodology for understanding and deconflicting ocean space. As described in Section 3, BOEM and NCCOS held a Data Workshop in September 2024 to begin the process of gathering data and forming collaborations between multiple Federal, Territorial, and local agencies and non-governmental organizations to discuss data in the region.

c. Coordination With DoD

DoD conducts offshore training and operations within portions of the Call Area. BOEM intends to refine the Call Area during the Area Identification process based on DoD's assessment of compatibility between commercial offshore wind energy development and DoD activities as described in the “Memorandum of Understanding Between the Department of Defense and the Department of the Interior Regarding Renewable Energy Development on the Outer Continental Shelf” signed in October 2024.⁷

⁷ BOEM. 2024. Memorandum of Understanding Between the Department of Defense and the Department of the Interior Regarding Renewable Energy Development on the Outer Continental Shelf. Available at: https://www.boem.gov/sites/default/files/documents/about-boem/regulations-guidance/BOEM%20DOD%20MOU%20-Collaboration%20on%20Offshore%20Wind%20Development.pdf.

BOEM is currently working with DoD and will continue collaborating closely with DoD on Guam's offshore wind energy mission compatibility assessment. That assessment may identify areas incompatible for wind energy leasing, areas potentially incompatible with mitigation measures, and/or areas compatible with wind energy development. Potentially incompatible areas are those that will require site-specific mitigation to ensure that offshore wind energy facilities are compatible with DoD activities. These mitigation measures may include, among others: hold and save harmless agreements; mandatory coordination with DoD on specified activities; restrictions on electromagnetic emissions; and evacuation procedures from the lease area for safety reasons when notified by DoD. BOEM may remove from leasing consideration any OCS blocks identified as incompatible with DoD's activities in the compatibility assessment.

d. Coordination With Chamoru Community and Indigenous Peoples

Local and Territorial agencies with associations with the Chamoru community are members of or have been invited to be a part of the Task Force. BOEM will continue to engage with members of these agencies and other local groups during the offshore wind planning process, including Area Identification. Some of the concerns identified are potential impacts on Indigenous fishing practices, traditional navigation and paddling, and land use associated with offshore wind projects; additionally, meeting fatigue and capacity issues were also cited as concerns. BOEM will engage further with these groups to identify additional concerns through outreach and ongoing studies in the region. BOEM has started engagement with the Indigenous Peoples of Guam and the Commonwealth of Northern Mariana Islands through the BOEM-funded study entitled, “Maritime Heritage of the U.S. Pacific Islands,” which will continue through 2027.

e. Coordination With NOAA National Marine Fisheries Service (NMFS) Pacific Islands Regional Office (PIRO)

NMFS has broad responsibility in research and management of the marine environment, including management of sustainable fisheries, and conservation and recovery of protected resources. BOEM and the NMFS Pacific Island Regional Office (PIRO) will collaborate closely throughout the offshore wind planning process by partnering to close information gaps; engage with Indigenous, recreational and commercial fishers; and on data collection and sharing. PIRO will be an important partner in the NCCOS Area Identification process. After the Area Identification process, BOEM plans to conduct an Environmental Assessment under the National Environmental Policy Act (NEPA) prior to leasing. BOEM would also initiate the necessary consultations with NMFS under the Endangered Species Act and the Magnuson-Stevens Fishery Conservation and Management Act (MSA) regarding potential impacts.

f. Coordination With Western Pacific Regional Fishery Management Council

The Western Pacific Regional Fishery Management Council (Council) is one of eight regional councils established by the MSA. The Council manages fisheries within the Exclusive Economic Zone (EEZ) off Hawai'i, American Samoa, Guam, the Commonwealth of the Northern Mariana Islands, and eight remote islands. BOEM coordinates with the Council by providing status updates on offshore wind planning for Guam and will continue coordination throughout the planning and leasing process. The Council provides crucial feedback on managed fisheries and Indigenous Peoples' fishing in the region.

8. Requested Information From Interested or Affected Parties

Feedback from interested or affected parties is essential to help BOEM identify areas that may be suitable for potential offshore wind development. Commenters should be as specific and detailed as possible to help BOEM understand and address the comments. Where applicable, spatial information should be submitted in a format compatible with Esri ArcGIS (Esri shapefile or Esri file geodatabase) in the WGS84 geographic coordinate system. BOEM requests comments regarding the following features, activities, mitigations, or concerns within or around the Call Area.

a. Information on geological, geophysical, and biological sea floor conditions (including bottom and shallow hazards and live bottom).

b. Information on protected species.

c. Information on other uses of the OCS in or near the Call Area, particularly with regard to vessel navigation. Additional information regarding recreational, commercial and Indigenous fisheries, including, but not limited to, the use of the areas, the fishing gear types used, seasonal use, and recommendations for reducing use conflicts.

d. Information on potential locations of unexploded ordnance (UXO); other historic dumping or disposal in the marine environment.

e. Information on current energy use, renewable energy goals and potential interest in offshore wind development on the OCS near islands surrounding Guam (e.g., Commonwealth of the Northern Mariana Islands).

f. Information on renewable energy cost analyses or wind datasets that may be available. Relatedly, BOEM is providing funding to the National Renewable Energy Laboratory for work to inform the Levelized Cost of Energy for offshore wind off Guam that will include modeled wind speeds in and around the Call Area. BOEM welcomes additional information on these topics.

g. Information from the offshore wind energy industry on the considerations for offshore energy development in deep waters, including greater than 1,300 meter water depths, and in areas where the seafloor slope is greater than 10 degrees, with respect to mooring configurations and subsea transmission cables. Feedback on other development considerations in deep waters, such as available floating technology, transmission distance, water depth, seafloor conditions, and operations and maintenance feasibility and costs.

h. Information regarding the identification of historic properties or potential effects to historic properties from leasing, site assessment activities (including the installation of meteorological buoys), or commercial wind energy development in the Call Area. This includes potential offshore archaeological sites, cultural resources, or other historic properties within the areas described in this notice and onshore historic properties that could potentially be affected by renewable energy activities within the Call Area. This information will inform BOEM's review of future undertakings conducted pursuant to Section 106 of the National Historic Preservation Act (NHPA) and the NEPA.

i. Information relating to visual and scenic resources, including seascape, landscape, and ocean character aesthetics; visually sensitive areas along the coastline that are sensitive to changes in ocean views (e.g., scenic seaside trails, National Park System units, National Wildlife Refuges, Territorial parks, historic districts, conservation areas, and other special designations with scenic value); suggestions for potential key observation points for evaluating potential visual impacts (i.e., places that people visit, recreate, work, and live where ocean views contribute to the quality of experience); general or specific public concerns over potential visual impacts by wind energy development; and potential strategies to help minimize or mitigate any visual effects. BOEM welcomes input on the degree of acceptable or unacceptable levels of offshore wind energy visibility as would be seen from the coastline, and thresholds of diminished or increased visibility as influenced by distances between onshore viewers and wind energy facilities.

j. Information regarding the potential for interference with radar systems covering the Call Area, including, but not limited to, the use of surface and airborne radar systems for offshore search and rescue operations and environmental monitoring.

k. Information regarding locations and activities associated with potential, ongoing and future exploration of offshore sand resources, including nearshore resources and placement areas that may be impacted by a potential future lease area or possible electrical cable transmission routes.

l. Information on the constraints and advantages of possible electrical cable transmission routes, including onshore landing and interconnection points for cables connecting offshore wind energy facilities to the onshore electrical grid, and information regarding future demand for electricity in the region.

m. Information regarding the size and number of WEAs, taking into consideration the offshore wind energy goals of Guam. BOEM requests further information on what additional factors it should consider in determining the size and number of WEAs.

n. Information related to Indigenous Peoples in the region and interactions with potential offshore wind energy facilities, such as potential impacts to CHamoru cultural practices; lands; resources; ancestral lands; sacred sites, including sites that are submerged; and access to traditional areas of cultural or religious importance on federally managed lands and waters. BOEM will protect confidential information shared by Indigenous Peoples in response to this Call to the extent authorized by Federal law. Treatment of confidential information is addressed in section 10 of this notice entitled, “Protection of Privileged, Personal, or Confidential Information.”

o. Socioeconomic information for communities potentially affected by wind energy leasing in the Call Area, including community profiles, vulnerability and resiliency data, and information on environmental justice communities. BOEM also solicits comments on how best to meaningfully engage with these communities.

p. Information on coastal or onshore activities needed to support offshore wind energy development, such as port and transmission infrastructure, and associated potential impacts to recreation, scenic, cultural, historical, and natural resources relating to those activities.

q. Any other relevant information that you think BOEM should consider during its planning and decision-making process for the purpose of identifying areas to lease within the Call Area.

9. Required Nomination Information

BOEM previously received information that its former practice of publishing the areas nominated by each qualified company in response to a Call may disincentivize entities from submitting nominations. Nominations and the accompanying rationale are extremely useful to help BOEM understand and model the commercial viability of portions of the OCS. Therefore, BOEM will not publish individual maps of each qualified company's nominations received in response to this Call. BOEM will publish a heatmap that shows an aggregated view of all the nominations and a list of the qualified companies that submitted nominations. Where applicable, qualified companies should submit spatial information in a format compatible with Esri ArcGIS (Esri shapefile or Esri file geodatabase) in the WGS84 geographic coordinate system.

If you wish to nominate one or more areas for a commercial wind energy lease within the Call Area, you must provide the following information for each nomination:

(a) The BOEM protraction name, number, and the specific whole or partial OCS blocks within the Call Area that you are interested in leasing. If your nomination includes one or more partial blocks, please describe those partial blocks in terms of sixteenths (i.e., sub-block) of an OCS block. Each area you nominate should be sized appropriately to accommodate the development of a reasonable wind energy facility for the region (e.g., a facility with the generation capacity of up to 350 megawatts) plus a buffer (generation capacity of up to 500 megawatts). Nominations that considerably exceed the acreage needed to support a generation capacity of up to 500 megawatts, such as a nomination for the entire Call Area, may be deemed unreasonable and not accepted by BOEM.

(b) A rationale describing why you selected the nominated areas. The more detailed the rationale provided, the more informative it will be to BOEM's process. BOEM is particularly interested in how factors like wind speed, water depth, seafloor slope, bottom type, and interconnection points factor into the nomination process.

(c) A description of your objectives and the facilities that you would use to achieve those objectives.

(d) A preliminary schedule of proposed activities, including those leading to commercial operations.

(e) Available and pertinent data and information concerning renewable energy resources and environmental conditions in each area that you wish to lease, including energy and resource data, and other information used to evaluate the area.

(f) Documentation demonstrating that you are legally, technically, and financially qualified to hold an OCS wind energy lease, as set forth in 30 CFR 585.107—585.108. Qualification materials should be developed in accordance with the guidelines available at https://www.boem.gov/Renewable-Energy-Qualification-Guidelines. For examples of documentation appropriate for demonstrating your legal qualifications and related guidance, contact Lakeisha Douglas, BOEM, Pacific Region, Office of Strategic Resources, at lakeisha.douglas@boem.gov or (805) 384-6394.

10. Protection of Privileged, Personal, or Confidential Information

a. Freedom of Information Act

BOEM will protect privileged or confidential information that you submit when required by the Freedom of Information Act (FOIA). Exemption 4 of FOIA applies to trade secrets and commercial or financial information that is privileged or confidential. If you wish to protect the confidentiality of such information, clearly label it and request that BOEM treat it as confidential. BOEM will not disclose such information if BOEM determines under 30 CFR 585.114(b) that it qualifies for exemption from disclosure under FOIA. Please label privileged or confidential information “Contains Confidential Information” and consider submitting such information as a separate attachment.

BOEM will not treat as confidential any aggregate summaries of such information or comments not containing such privileged or confidential information. Information that is not labeled as privileged or confidential may be regarded by BOEM as suitable for public release.

b. Personally Identifiable Information

BOEM encourages you not to submit anonymous comments. Please include your name and address as part of your comment. You should be aware that your entire comment, including your name, address, and any personally identifiable information (PII) included in your comment, may be made publicly available. All submissions from identified individuals, businesses, and organizations will be available for public viewing on regulations.gov. Note that BOEM will make available for public inspection all comments, in their entirety, submitted by organizations and businesses, or by individuals identifying themselves as representatives of organizations or businesses.

For BOEM to consider withholding your PII from disclosure, you must identify any information contained in your comments that, if released, would constitute a clearly unwarranted invasion of your personal privacy. You must also briefly describe any possible harmful consequences of the disclosure of information, such as embarrassment, injury, or other harm. Even if BOEM withholds your information in the context of this Call, your submission is subject to FOIA and, if your submission is requested under FOIA, your information will be withheld only if a determination is made that one of FOIA's exemptions to disclosure applies. Such a determination will be made in accordance with the Department's FOIA regulations and applicable law.

c. Section 304 of the NHPA (54 U.S.C. 307103(a))

After consultation with the Secretary, BOEM is required to withhold the location, character, or ownership of historic resources if it determines that disclosure may, among other things, risk harm to the historic resources or impede the use of a traditional religious site by practitioners. Indigenous Peoples, communities, and organizations should designate information that falls under Section 304 of the NHPA as confidential.

11. BOEM's Environmental Review Process

Before deciding whether leases may be issued, BOEM will prepare an Environmental Assessment (EA) under NEPA (including public comment periods to determine the scope of the EA and to review and comment on the draft EA). The EA will analyze anticipated impacts from leasing within the WEAs and site characterization and assessment activities expected to occur after a lease is issued. Site characterization activities include geophysical, geotechnical, archaeological, and biological surveys, and site assessment activities, including the installation and operation of meteorological buoys. BOEM will also conduct appropriate consultations with Federal agencies, Territorial agencies, and local governments during preparation of the EA. These consultations include, but are not limited to, those required by the Coastal Zone Management Act, the Magnuson-Stevens Fishery Conservation and Management Act, the Endangered Species Act, and Section 106 of the NHPA.

Before BOEM allows any construction of a wind energy project in the Call Area, BOEM must approve a construction and operations plan (COP) submitted by a Lessee. Prior to the approval of a COP, BOEM will need to consider the potential environmental effects of the construction and operation of any wind energy facility under a separate, project-specific NEPA analysis. This analysis will include additional opportunities for public involvement and may result in the publication of an environmental impact statement.

Elizabeth Klein,
Director, Bureau of Ocean Energy Management.

[FR Doc. 2024-31231 Filed 1-3-25; 8:45 am]

BILLING CODE 4340-98-P